DEPARTMENT OF THE INTERIOR

National Park Service

[NPS-WASO-NRNHL-22242;PPWOCRADI0, PCU00RP14.R50000]

National Register of Historic Places; Notification of Pending Nominations and Related Actions

AGENCY: National Park Service, Interior.

ACTION: Notice.

SUMMARY: The National Park Service is soliciting comments on the significance of properties nominated before October 15, 2016, for listing or related actions in the National Register of Historic Places.

DATES: Comments should be submitted by November 29, 2016.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before October 15, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

COLORADO

Denver County

Fort Logan National Cemetery, 3698 S. Sheridan Blvd., Denver, 16000810

DISTRICT OF COLUMBIA

District of Columbia

National Mall Historic District (Boundary Increase), Bounded by 3rd St. NW-SW., Independence Ave. SW., Raoul Wallenberg Pl. SW., CSX RR, Potomac R., Constitution Ave. NW., Washington, 16000805

IDAHO

Idaho County

Big Cedar School, 947 Red Fir Rd., Kooskia, 16000806

MONTANA

Yellowstone County

North Elevation Historic District, Bounded by 12th Ave. N., alley between N. 31st & 30th Sts., 9th Ave. N. & 32ns St. N., Billings, 16000807

NORTH CAROLINA

Swain County

Mingus Mill, (Great Smoky Mountains National Park MPS) Newfound Gap Rd., Great Smoky Mts. NP., Cherokee, 16000808

Oconaluftee Ranger Station, (Great Smoky Mountains National Park MPS) Newfound Gap Rd., Great Smoky Mts. NP., Cherokee, 16000809

TENNESSEE

Campbell County

LaFollette Coke Ovens, Ivydale & Water Plant Rds., Coke Oven Ln., LaFollette, 16000811

Shelby County

Memphis Federation of Musicians Local 71 Building, 944 Philadelphia St., Memphis, 16000812

WISCONSIN

Green County

Ten Eyck, Albert and Minna, Round Barn, (Wisconsin Centric Barns MPS) W968 WI 11, Spring Grove, 16000813

A request for removal has been received for the following resources:

LOUISIANA

Concordia Parish

Campbell, Sheriff Eugene P., House, 2 Concordia Ave., Vidalia, 79001058

East Baton Rouge Parish

Planter's Cabin, 7815 Highland Rd., Baton Rouge, 84001279

Evangeline Parish

Dardeau Building, 224 W. Main, Ville Platte, 82002771

Franklin Parish

Chennault House, LA 15 S. of Gilbert, Gilbert, 83000505

Iberia Parish

Lamperez, Santiago, House, 203 Front St., New Iberia, 85003147

Jefferson Davis Parish

Fruge Store, 907 Main St., Elton, 94001176

Lincoln Parish

Vicksburg, Shreveport and Pacific Depot, 101 E. Railroad Ave., Ruston, 92001337

Pointe Coupee Parish

LaCour, Ovide, Store, LA 419, LaCour, 79001080

Franklin Parish

Chennault House, LA 15 S. of Gilbert, Gilbert, 83000505

Rapides Parish

Hopson House, Brown's Bend Rd., Alexandria, 84000549

Overton, Senator John H., House, 1128 8th St., Alexandria, 85001584

Oxland, Cty. Rd. 1202, Alexandria, 84000551

Red River Parish

Planter's Hotel, Carroll St., Coushatta, 80001758

Authority: 60.13 of 36 CFR part 60.

Dated: October 21, 2016.
Julie H. Ernstein,
Acting Chief, National Register of Historic Places/National Historic Landmarks Program.

[FR Doc. 2016-27241 Filed 11-10-16; 8:45 am]

BILLING CODE 4312-52-P